POSTAL REGULATORY COMMISSION

Briefing on Postal Technology

AGENCY: Postal Regulatory Commission.

ACTION: Notice of briefing.

SUMMARY: There will be a presentation by Dr. Leon Pinsov, Vice President, International Standards and Advanced Technology, Pitney Bowes Corporation, on “Postal Product Innovation and New Opportunities for Postal Commerce” on Thursday, April 30, 2009, beginning at 1 p.m., in the Postal Regulatory Commission's hearing room. The briefing is open to the public; however, seating is limited, and those wishing to reserve a seat should telephone Leona Anasiewiez at 202-789-6877. The program will be Webcast at http://www.prc.gov.

DATES: April 30, 2009.

ADDRESSES: Postal Regulatory Commission, 901 New York Avenue, NW., Suite 200, Washington, DC 20268-0001.

FOR FURTHER INFORMATION CONTACT: Ann Fisher, director, Office of Public Affairs and Government Relations, Postal Regulatory Commission, 202-789-6803.

Steven W. Williams,
Secretary.

[FR Doc. E9-9287 Filed 4-22-09; 8:45 am]

BILLING CODE 7710-FW-P